SMALL BUSINESS ADMINISTRATION

13 CFR Chapter 1

[Docket No.: SBA-2011-0012]

Reducing Regulatory Burden; Retrospective Review Under Executive Order 13563

AGENCY: U.S. Small Business Administration

ACTION: Request for information.

SUMMARY: As part of its implementation of Executive Order 13563, “Improving Regulation and Regulatory Review,” the Small Business Administration (SBA) is seeking comments and information from interested parties to assist the agency in reviewing its existing regulations to determine whether they should be streamlined, expanded, or withdrawn. The primary objectives of this review are to make SBA's regulatory program more cost effective and less burdensome on participants in the Agency's programs while continuing to promote economic growth, innovation, and job creation. SBA seeks public input on the design of a plan to use for periodic retrospective review of its regulations and an initial list of the rules to be reviewed under the plan.

DATES: Comments are requested on or before April 13, 2011.

ADDRESSES: You may submit comments, identified by Docket Number SBA-2011-0012 using any of the following methods:

Federal eRulemaking Portal: http://www.regulations.gov. Identify comments by “Docket Number SBA-2011-0012, Regulatory Burden RFI,” and follow the instructions for submitting comments.

Mail: U.S. Small Business Administration, Office of the General Counsel, 409 Third Street, SW., Washington, DC 20416.

SBA will post comments on http://www.regulations.gov. If you wish to submit confidential business information (CBI) as defined in the User Notice at http://www.regulations.gov, please submit the information to Martin S. Conrey, Assistant General Counsel for Legislation and Appropriations, Office of General Counsel, 409 Third Street, SW., Washington, DC 20416. Highlight the information that you consider to be CBI, and explain why you believe this information should be held confidential. SBA will review the information and make the final determination of whether it will publish the information or not.

FOR FURTHER INFORMATION CONTACT: Martin S. Conrey, Assistant General Counsel for Legislation and Appropriations, Office of the General Counsel, 409 Third Street, SW., Washington, DC 20416; telephone number: 202-619-0638; fax number: 202-205-6846; e-mail address: martin.conrey@sba.gov.

SUPPLEMENTARY INFORMATION:

I. General Information

The mission of the Small Business Administration is to maintain and strengthen the Nation's economy by enabling the establishment and viability of small businesses, and by assisting in economic recovery of communities after disasters. In carrying out this mission, SBA has developed a regulatory policy that is implemented primarily through several core program offices: Office of Capital Access, Office of Disaster Assistance, Office of Entrepreneurial Development, Office of Government Contracting and Business Development, Office of International Trade, and Office of Investment and Innovation. SBA's regulations are codified at Title 13 Code of Federal Regulations, Chapter I, and consist of Parts 100 through 147.

II. Executive Order 13563

On January 18, 2011, the President issued Executive Order 13563, “Improving Regulation and Regulatory Review,” that requires Federal agencies to seek more affordable, less intrusive means to achieve policy goals, and to give careful consideration to the benefits and costs of their regulations. The Executive Order also requires agencies to review existing rules to remove outdated regulations that stifle job creation and make the U.S. economy less competitive. Agencies are directed to develop a preliminary plan under which they will periodically review existing regulations to determine which should be maintained, modified, strengthened, or withdrawn in order to increase their effectiveness and decrease the burdens of the agency's regulatory program.

III. Retrospective Review Plan

In compliance with the executive order, SBA seeks help in designing the plan it will use for the periodic review of its existing regulations and an initial list of candidate rules for review. The Agency's goal is to create a systematic method for identifying those significant rules that are obsolete, unnecessary, unjustified, or counterproductive. The public is first asked to comment on how SBA should devise its preliminary plan, with a defined method and schedule, for identifying certain significant rules that may be obsolete, unnecessary, unjustified, excessively burdensome, or counterproductive. It would be helpful for comments to address how SBA could best evaluate and analyze regulations in order to expand on those that work and to modify, improve, or rescind those that do not. Comments might address how SBA can best obtain and consider accurate, objective information and data about the costs, burdens, and benefits of existing regulations and whether there are existing sources of data that SBA can use to evaluate the post-promulgation effects of regulations over time. SBA is particularly interested in the public's views about how well its current processes for reviewing regulations function and how those processes might be expanded or otherwise adapted to meet the objectives of Executive Order 13563. SBA is also interested in comments about factors that we should consider in setting priorities and selecting rules for review.

SBA intends for its preliminary plan to include an initial list of candidate rules to review. SBA solicits suggestions for specific rules that should be on the list. In suggesting rules for review, commenters might usefully address, among other things, how SBA can use the retrospective review process to achieve the following objectives: (1) Promote economic growth, innovation, competitiveness, and job creation; (2) eliminate outdated regulations; (3) lessen the burdens imposed on those directly or indirectly affected by our regulations, particularly small entities; (4) increase the benefits provided to the public by our regulations, and improve the cost-benefit balance of our regulations; (5) eliminate duplicative or overlapping regulations; (6) reduce paperwork by eliminating duplication, lessening frequency, allowing electronic submission, standardizing forms, exempting small entities, or other means; (7) eliminate conflicts and inconsistencies in SBA's regulations; (8) simplify or clarify language in regulations; (9) revise regulations to address changes in technology, economic conditions, or other factors; (10) determine if matters in an existing regulation could be better handled fully by trade organizations or participants without Federal regulations; (11) reduce burdens by incorporating industry consensus standards into regulations; (12) reconsider regulations that were based on scientific or other information that has been discredited or superseded; and (13) expand regulations that are insufficient to address their intended objective or obtain additional benefits.

Comments should focus on regulations that have demonstrated deficiencies. Comments that rehash debates over recently issued rules will be less useful. The public should focus on rule changes that will achieve a broad public impact, rather than an individual, personal or corporate benefit. Where feasible, comments should reference a specific regulation, by Code of Federal Regulations (CFR) citation, and provide SBA information on what needs fixing and why. Comments do not necessarily have to address how to fix the perceived problem, though such comments are welcome. Lastly, we also want to stress that this review is for existing rules; the public should not use this process to submit comments on proposed rules.

With these factors in mind, SBA is contemplating focusing its retrospective review on the rules that govern the following programs: Small Business Investment Companies (Part 107); Surety Bond Guarantee (Part 115); Business Loans (Part 120); Disaster Loans (Part 123); Government Contracting (Part 125); and HUBZone (Part 126).

SBA has just completed a comprehensive review of the regulations for the 8(a) Business Development/Small Disadvantaged Business program (Part 124) pursuant to section 610 of the Regulatory Flexibility Act, 5 U.S.C. 601, et seq. The final rule reflects an extensive public participation process, including a lengthy notice and comment period, several public hearings in diverse areas of the country, and consultations with various groups. See, 76 FR 8221 (Feb. 11, 2011). SBA is currently conducting a similar review of its size regulations (Part 121) and will be soliciting specific comments on those regulations as they are developed and published in the Federal Register. In light of these comprehensive reviews, pursuant to the requirements of section 610 of the Regulatory Flexibility Act, SBA does not intend to include these two sets of regulations in the retrospective review under Executive Order 13563.

IV. Request for Information

Consistent with the Agency's commitment to public participation in the rulemaking process, SBA is issuing this Request for Information (RFI) to solicit views from the public on how best to design a plan to conduct its retrospective analysis of existing SBA rules, and identify those rules that should be included in the plan for possible modification, streamlining, expansion or repeal. While SBA promulgates rules in accordance with the law and to the best of its capability, it is difficult to be certain of the consequences of a rule, including its costs and benefits, until it has been tested. Therefore, SBA invites interested parties to submit data that documents the costs, burdens, and benefits of existing regulations. The Agency believes that members of the public are likely to have useful information and perspectives on the benefits and burdens of existing regulations, and can assist SBA in identifying and prioritizing those rules that are most in need of review.

SBA is accepting your comments from now through April 1, 2011. Although the Agency will not be able to respond to every individual comment, your input is valued and your ideas merit careful consideration. By late May or early June, you will have the opportunity to review SBA's retrospective review plan on our Open Government webpage, http://sba.gov/opengovernment, as well as an initial list of regulations that we plan to review first.

As you comment, SBA requests that you keep these key considerations in mind:

• SBA must uphold its mission to strengthen America's economy by providing tools to help grow businesses, create jobs, and help victims recover from disasters.

• SBA's plan will be tailored to reflect its resources, rulemaking history, and volume.

• A number of laws or executive orders already direct the Agency to regularly review certain regulations. Your input is requested on developing a plan that is integrated with those existing requirements.

V. List of Questions for Commenters

The list of questions below is designed to identify issues that might arise in the development of a preliminary plan for the retrospective analysis of the agency's regulations. This non-exhaustive list is meant to assist in the formulation of public comments and is not intended to restrict the issues that may be addressed. SBA requests that commenters identify the specific regulation at issue and explain, in as much detail as possible, why the regulation should be modified, streamlined, expanded, or withdrawn, as well as specific suggestions of ways SBA can better achieve its regulatory objectives.

(1) How can SBA identify those rules that might be modified, streamlined, expanded, or repealed?

(2) What factors should the agency consider in selecting and prioritizing rules for review?

(3) Are there regulations that have become unnecessary, or ineffective, and, if so, what are they?

(4) Are there rules that can be withdrawn without impairing SBA's regulatory programs and, if so, what are they?

(5) Are there rules that have become outdated and, if so, how can they be modernized to better accomplish their regulatory objectives?

(6) Are there rules that are still necessary, but which have not operated as well as expected such that a modified, stronger, or slightly different approach is justified?

(7) Are there regulations, or regulatory processes that are unnecessarily complicated or could be streamlined to achieve regulatory objectives more efficiently?

(8) Are there any technological developments that can be leveraged to modify, streamline, or repeal any existing regulatory requirements?

(9) Are there any SBA regulations that are not tailored to impose the least burden on the public?

(10) How can SBA best obtain and consider accurate, objective information and data about the costs, burdens, and benefits of existing regulations?

(11) Are there existing sources of data SBA can use to evaluate the post-promulgation effects of regulations over time?

(12) Are there regulations that are working well that can be expanded or used as a model to fill gaps in other SBA regulatory programs?

SBA notes that this RFI is issued solely for information and planning purposes and that the Agency is not bound to any further actions related to the comments submitted. All submissions will be made publically available on http://www.regulations.gov.

All comments received are considered part of the public record and made available for public inspection online at http://www.regulations.gov. Such information includes personal identifying information (e.g. your name, address, etc.) voluntarily submitted by the commenter.

Authority: 15 U.S.C. 5(b)(6).

Dated: March 8, 2011.
Sara D. Lipscomb,
General Counsel.

[FR Doc. 2011-5839 Filed 3-11-11; 8:45 am]

BILLING CODE 8025-01-P